DEPARTMENT OF LABOR

Employment and Training Administration

[TA-W-51,189]

Nokia, Inc., Broadband Systems Division, Santa Rosa, CA; Notice of Negative Determination Regarding Application for Reconsideration

By application of May 27, 2003, a petitioner requested administrative reconsideration of the Department's negative determination regarding eligibility for workers and former workers of the subject firm to apply for Trade Adjustment Assistance (TAA). The denial notice was signed on April 29, 2003 and published in the Federal Register on May 9, 2003 (68 FR 25060).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Nokia, Inc., Broadband Systems Division, Santa Rosa, California engaged in the employment related to research and development for Digital Subscriber Multiplexers (DSLM), was denied because the workers did not produce an article within the meaning of section 222 of the Trade Act of 1974.

The petitioner alleges that workers were engaged in production. In a follow up contact, it was clarified that the petitioner wished it noted that workers at the facility did perform occasional assembly and testing of final DSLM production within the two years prior to the plant shut down, as well as production of DSLM prototypes for the parent company. He concluded that all of this production was shifted to Finland and that the production was used to service a United States customer base.

A company official was contacted in regard to these allegations. As a result of this contact, it was revealed that prototype production did constitute a portion of work performed at the subject facility and that this production did shift to Finland. However, it was stated that these prototypes were rarely shipped to the U.S., as they were used for production in Finland for internal company use. The official further indicated that assembly and testing of other production constituted a very small portion of work performed at the subject facility.

Conclusion

After review of the application and investigative findings, I conclude that there has been no error or misinterpretation of the law or of the facts which would justify reconsideration of the Department of Labor's prior decision. Accordingly, the application is denied.

Signed at Washington, DC, this 11th day of September, 2003.
Elliott S. Kushner,
Certifying Officer, Division of Trade Adjustment Assistance.

[FR Doc. 03-25715 Filed 10-9-03; 8:45 am]

BILLING CODE 4510-30-P